DEPARTMENT OF TRANSPORTATION

Federal Aviation Administration

14 CFR Part 39

[Docket No. FAA-2015-2119; Directorate Identifier 2015-SW-005-AD; Amendment 39-18179; AD 2015-05-51]

RIN 2120-AA64

Airworthiness Directives; Agusta S.p.A. (Agusta) Helicopters

AGENCY: Federal Aviation Administration (FAA), Department of Transportation (DOT).

ACTION: Final rule; request for comments.

SUMMARY: We are publishing a new airworthiness directive (AD) for Agusta Model A109A and A109A II helicopters, which was sent previously to all known U.S. owners and operators of these helicopters. This AD requires replacing a certain part-numbered blade with an approved part-numbered blade. This AD is prompted by an error in the Illustrated Parts Catalog (IPC) that incorrectly allows installation of a certain part-numbered blade on the affected helicopters. These actions are intended to prevent blade failure and subsequent loss of control of the helicopter.

DATES: This AD becomes effective July 1, 2015 to all persons except those persons to whom it was made immediately effective by Emergency AD 2015-05-51, issued on March 3, 2015, which contained the requirements of this AD.

We must receive comments on this AD by August 17, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any comments received, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

FOR FURTHER INFORMATION CONTACT: Martin Crane, Aviation Safety Engineer, Rotorcraft Directorate, FAA, 2601 Meacham Blvd., Fort Worth, Texas 76137; telephone (817) 222 5110; email Martin.R.Crane@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On March 3, 2015, we issued Emergency AD 2015-05-51 to correct an unsafe condition for Agusta Model A109A helicopters, serial numbers 7154 through 7255, and for all Model A109A II helicopters. Emergency AD 2015-05-51 requires replacing blade part number (P/N) 109-0103-01-7 with blade P/N 109-0103-01-9 or 109-0103-01-115. The emergency AD was sent previously to all known U.S. owners and operators of these helicopters. This action was prompted by an error in the IPC that allows installing blade P/N 109-0103-01-7 on certain serial-numbered Model A109A helicopters and on Model A109A II helicopters.

Emergency AD 2015-05-51 was prompted by Emergency AD No. 2015-0025-E, dated February 18, 2015, issued by EASA, which is the Technical Agent for the Member States of the European Union, to correct an unsafe condition for certain serial-numbered Agusta Model A109A and all Model A109A II helicopters. EASA advises of the installation of blade P/N 109-0103-01-7 on Model A109A II helicopters. In a subsequent investigation, it was determined that blade P/N 109-0103-01-7 is only eligible for installation on Model A109A helicopters up to serial number (S/N) 7153. EASA states that for Model A109A and A109A II helicopters, the current IPC incorrectly allows installing blade P/N 109-0103-01-7 on all helicopters. The EASA AD requires identifying each blade P/N 109-0103-01-7 and replacing it with P/N 109-0103-01-9 or P/N 109-0103-01-115. The EASA AD also prohibits installing blade P/N 109-0103-01-7 on Model A109A helicopters from S/N 7154 through 7255 inclusive and on all Model A109A II helicopters.

FAA's Determination

These helicopters have been approved by the aviation authority of Italy and are approved for operation in the United States. Pursuant to our bilateral agreement with Italy, EASA, its technical representative, has notified us of the unsafe condition described in the EASA EAD. We are issuing this AD because we evaluated all information provided by EASA and determined the unsafe condition exists and is likely to exist or develop on other helicopters of these same type designs.

Related Service Information

AgustaWestland Alert Bollettino Tecnico No. 109-142, dated February 17, 2015, specifies determining whether the affected part-numbered blade is installed and, if installed, replacing it with blade P/N 109-0103-01-9 or P/N 109-0103-01-115. Also, the service information states that AgustaWestland has updated the A109A/AII IPC to give the correct information about the applicable configuration.

AD Requirements

This AD requires, before further flight, replacing blade P/N 109-0103-01-7 with blade P/N 109-0103-01-9 or 109-0103-01-115.

Costs of Compliance

We estimate that this AD will affect 34 helicopters of U.S. Registry.

We estimate that operators may incur the following costs in order to comply with this AD. Labor costs are estimated at $85 per hour. We estimate 1 work hour to replace a blade and $143,000 for required parts, for a total cost of $143,085 per blade.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the required action must be accomplished before further flight.

Since an unsafe condition exists that requires the immediate adoption of this AD, we determined that notice and opportunity for public comment before issuing this AD are impracticable and contrary to the public interest and that good cause existed for making the AD effective immediately by Emergency AD 2015-05-51, issued on March 3, 2015, to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-05-51 Agusta S.p.A.: Amendment 39-18179; Docket No. FAA-2015-2119; Directorate Identifier 2015-SW-005-AD.

(a) Applicability

This AD applies to Model A109A helicopters, serial numbers (S/N) 7154 through 7255, and all Model A109A II helicopters, with a main rotor blade (blade) part number (P/N) 109-0103-01-7 installed, certificated in any category.

(b) Unsafe Condition

This AD defines the unsafe condition as the installation of a blade that does not meet type design. This condition could result in blade failure and subsequent loss of control of the helicopter.

(c) Effective Date

This AD becomes effective July 1, 2015 to all persons except those persons to whom it was made immediately effective by EAD 2015-05-51, issued on March 3, 2015, which contained the requirements of this AD.

(d) Compliance

You are responsible for performing each action required by this AD within the specified compliance time unless it has already been accomplished prior to that time.

(e) Required Actions

Before further flight, replace each blade with blade P/N 109-0103-01-9 or 109-0103-01-115.

(f) Alternative Methods of Compliance (AMOCs)

(1) The Manager, Safety Management Group, FAA, may approve AMOCs for this AD. Send your proposal to: Martin Crane, Aviation Safety Engineer, Rotorcraft Directorate, FAA, 2601 Meacham Blvd., Fort Worth, Texas 76137; telephone (817) 222 5110; email Martin.R.Crane@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) AgustaWestland Alert Bollettino Tecnico No. 109-142, dated February 17, 2015, which is not incorporated by reference, contains additional information about the subject of this AD. For a copy of the service information referenced in this AD, contact: AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

(2) The subject of this AD is addressed in European Aviation Safety Agency (EASA) Emergency AD No. 2015-0025-E, dated February 18, 2015. You may view the EASA AD on the Internet at http://www.regulations.gov in Docket No. FAA-2015-2119.

(h) Subject

Joint Aircraft System Component (JASC) Code: 6210 Main Rotor Blades.

Issued in Fort Worth, Texas, on June 2, 2015.
Lance T. Gant,
Acting Directorate Manager, Rotorcraft Directorate, Aircraft Certification Service.

[FR Doc. 2015-14415 Filed 6-15-15; 8:45 am]

BILLING CODE 4910-13-P